DEPARTMENT OF THE TREASURY

Office of the Comptroller of the Currency

Privacy Act of 1974; Systems of Records

AGENCY: Office of the Comptroller of the Currency, Treasury.

ACTION: Notice of alterations to three Office of the Comptroller of the Currency Privacy Act systems of records.

SUMMARY: In accordance with the requirements of the Privacy Act of 1974, as amended, 5 U.S.C. 552a, the Department of the Treasury and the Office of the Comptroller of the Currency (OCC) give notice of alterations to the Privacy Act systems of records entitled “CC .210—Bank Securities Dealers System,” “CC .220—Section 914 Tracking System;” and “CC .600—Consumer Complaint and Inquiry Information System.”

DATES: Effective Date: Comments must be received no later than October 13, 2011. The alterations to the systems of records will be effective October 24, 2011 unless the OCC receives comments that would result in a contrary determination.

FOR FURTHER INFORMATION CONTACT: Roger Mahach, Chief Information Security and Privacy Officer, (202) 649-5830. 250 E Street, SW., Washington, DC 20219.

SUPPLEMENTARY INFORMATION: Pursuant to section 313 of Title III of the Dodd Frank Wall Street Reform and Consumer Protection Act, Public Law 111-203-July 21, 2010 (the Act), the Office of Thrift Supervision (OTS) was abolished. On July 21, 2011, the transfer date under section 1062 of the Act, and pursuant to section 312 of the Act, the OTS was integrated into the OCC, and all functions of the OTS and the Director of the OTS related to Federal savings associations (and not otherwise transferred to another agency pursuant to the Act) were transferred to the OCC and the Comptroller of the Currency, including all rulemaking authority of the OTS and the Director of the OTS, respectively, relating to savings associations.

Also pursuant to section 312 of the Act, the OCC and the Comptroller succeed in all powers, authorities, rights and duties that were vested in the OTS and the Director of the OTS on the day before the transfer date relating to the functions transferred. Thus, the OCC, a bureau of the Treasury Department, is charged with assuring the safety and soundness of, and compliance with laws and regulations, fair access to financial services, and fair treatment of customers by, the institutions, including national banks and Federal savings associations, and other persons subject to its jurisdiction. See 12 U.S.C. (as amended by section 324 of the Act).

Thus, as of July 21, 2011, the OCC is responsible for the supervision of both national banks and Federal savings associations. Accordingly, to reflect the integration of the OTS into the OCC, the OCC is adding a category of individuals (those individuals related to Federal savings associations) to the following systems of records, which previously covered individuals related to national banks: Treasury/CC .210—Bank Securities Dealers System; Treasury/CC .220—Section 914 Tracking System; Treasury/CC .600—Consumer Complaint and Inquiry System. The OCC is also making conforming changes, as necessary, under “Purposes,” “Authority for Maintenance of the System,” and “Routine Uses” of the systems of records notices as necessary to capture the new category of individuals.

Additionally, the OCC is making other changes to the Treasury/CC .220—“Section 914 Tracking System” system of records, apart from the changes being made to reflect the integration of the OTS into the OCC. The OCC is renaming the system to more accurately reflect the information contained in the system. The system will no longer be called Treasury/CC .220—“Section 914 Tracking System” and will instead be called Treasury/CC .220—“Notices of Proposed Changes in Employees, Officers and Directors Tracking System.” The OCC is also adding new categories of individuals to the system, beyond the new category described above. The system currently includes individuals who file notices pursuant to 12 CFR 5.51. However, the OCC has the authority under other laws and regulations (i.e. 12 CFR 5.20 and 12 U.S.C. 1818(b)) to require the entities it supervises to file notices of changes in employees, officers and directors. Thus, the OCC is broadening the categories of individuals covered by the system so that the OCC may track notices filed under each relevant authority, which will allow the OCC to better carry out its statutory and regulatory responsibilities. In addition, two routine uses for the system will also be altered to conform to the appropriate new categories of individuals.

The System notices were last published in their entirety in the Federal Register, July 18, 2008 (Volume 73, Number 139) pp. 41402-41414.

As required by 5 U.S.C. 552a(r) of the Privacy Act, the report of altered systems of records has been submitted to the Committee on Government Reform of the House of Representatives, the Committee on Governmental Affairs of the Senate, and the Office of Management and Budget, pursuant to Appendix I to OMB Circular A-130, “Federal Agency Responsibilities for Maintaining Records About Individuals,” dated November 30, 2000.

For the reasons set forth in this preamble, the Department proposes to alter systems of records entitled “CC .210—Bank Securities Dealers System,” “CC .220—Section 914 Tracking System;” and “CC .600—Consumer Complaint and Inquiry Information System” as follows:

TREASURY/CC .210

SYSTEM NAME:

Bank Securities Dealers System

* * * * *

CATEGORIES OF INDIVIDUALS COVERED BY THE SYSTEM:

* * * * *

Description of changes: Add “Federal savings association” after “national bank,” and remove “District of Columbia Bank” and add in its place “District of Columbia savings association.” Add “or savings association” between “* * * of any such bank” and “in the capacity of.”

* * * * *

AUTHORITY FOR MAINTENANCE OF THE SYSTEM:

* * * * *

Description of changes: Add “(as amended)” after “12 U.S.C. 1;” add “1464” after “481” and before “1818.”

* * * * *

PURPOSE:

* * * * *

Description of changes: Add “Federal savings association” after “national banks” and remove “District of Columbia banks” and add in its place “District of Columbia savings associations.”

* * * * *

TREASURY/CC .220

SYSTEM NAME:

Description of changes: Remove the title “Section 914 Tracking system” and in its place add “Notices of Proposed Changes in Employees, Officers and Directors Tracking System.”

* * * * *

CATEGORIES OF INDIVIDUALS COVERED BY THE SYSTEM:

Description of changes: Remove current entry and in its place add the following: “Individuals covered by this system are those who are named in notices filed: (1) under 12 CFR 5.51 as proposed directors or senior executive officers of a national bank, or federal branches of foreign banks (Section 5.51 entities) when the entities:

(a) Have a composite rating of 4 or 5 under the Uniform Financial Institutions Rating System;

(b) Are subject to cease and desist orders, consent orders, or formal written agreements, unless otherwise informed in writing by the OCC;

(c) Have been determined, in writing, by the OCC to be in “troubled condition”;

(d) Are not in compliance with minimum capital requirements prescribed under 12 CFR Part 3; or

(e) Have been advised by the OCC, in connection with its review of an entity's capital restoration plan, that such notices are appropriate. (2) under 12 CFR 5.20(g)(2) as proposed officers or directors of national banks (Section 5.20(g)(2) entities) for a two-year period from the date they commence business. (3) under 12 CFR 163, Subpart H (previously 12 CFR 563, Subpart H) as proposed directors or senior executive officers of Federal savings associations (Part 163, Subpart H entities) when the entities:

(a) Are not in compliance with minimum capital requirements prescribed under 12 CFR 167 (previously 12 CFR 567);

(b) Have a composite rating of 4 or 5 under the Uniform Financial Institutions Rating System;

(c) Are subject to capital directives, cease and desist orders, consent orders, formal written agreements, or prompt corrective action directives relating to the safety and soundness or financial viability of the Federal savings association, unless otherwise informed in writing by the OCC;

(d) Have been determined in writing by the OCC to be in “troubled condition;” or

(e) Have been advised by the OCC, in connection with its review of an entity's capital restoration plan required by 12 U.S.C. 1831o, that such notice is required. (4) pursuant to 12 U.S.C. 1818(b) as proposed employees of national banks, Federal savings associations or any other entity subject to the OCC's jurisdiction (1818(b) entities), other than employees covered by 12 CFR 5.51 or 12 CFR 163, Subpart H, when required to do so pursuant to 12 U.S.C. 1818(b).”

CATEGORIES OF RECORDS IN THE SYSTEM:

* * * * *

Description of changes: Remove “pursuant to 5 CFR 5.51.”

* * * * *

AUTHORITY FOR MAINTENANCE OF THE SYSTEM:

* * * * *

Description of changes: Add “(as amended)” after “12 U.S.C. 1;” add “1464” after “481” and before “1817(j).”

* * * * *

ROUTINE USES OF RECORDS MAINTAINED IN THE SYSTEM, INCLUDING CATEGORIES OF USERS AND THE PURPOSES OF SUCH USES:

* * * * *

a. Description of changes: Routine use 1) is amended by removing “An OCC-regulated entity” and in its place adding “A Section 5.51 entity, a Section 5.20(g) entity, a Part 163, Subpart H entity, or a Section 1818(b) entity.” Routine use (1) is further amended by removing the words “pursuant to 12 CFR 5.51” after the words “filed by that entity” and is revised to read as follows:

“A Section 5.51 entity, a Section 5.20(g) entity, a Part 163, Subpart H entity, or a Section 1818(b) entity in connection with review and action on a notice filed by that entity;”

b. Description of changes: Routine use (2) is amended by removing “12 CFR 5.51” and in its place add “any authority cited herein” and is revised to read as follows: “Third parties to the extent necessary to obtain information that is pertinent to the OCC's review and action on a notice received under any authority cited herein;”

* * * * *

SYSTEM MANAGER ADDRESS:

* * * * *

Description of changes: Remove “Director” and in its place add “Deputy Comptroller.”

* * * * *

TREASURY/CC .600

System Name:

Consumer Complaint and Inquiry System

* * * * *

CATEGORIES OF INDIVIDUALS COVERED BY THE SYSTEM:

Description of changes: Add “Federal savings associations,” after the words “about national banks” and remove “District of Columbia banks” and in its place add “District of Columbia savings associations.”

* * * * *

AUTHORITY FOR MAINTENANCE OF THE SYSTEM:

* * * * *

Description of changes: Add “(as amended)” after “12 U.S.C. 1;” add “1464” after “481” and before “and 1820.”

* * * * *

Dated: August 30, 2011.
Veronica Marco,
Acting Deputy Assistant Secretary for Privacy, Transparency, and Records.

[FR Doc. 2011-23397 Filed 9-12-11; 8:45 am]

BILLING CODE 4810-33-P